DEPARTMENT OF ENERGY

Fusion Energy Sciences Advisory Committee

AGENCY: Office of Science, Department of Energy.

ACTION: Notice of Renewal

SUMMARY: Pursuant to Section 14(a)(2)(A) of the Federal Advisory Committee Act, (Pub. L. 92-463), and in accordance with Title 41 of the Code of Federal Regulations, Section 102-3.65, and following consultation with the Committee Management Secretariat, General Services Administration, notice is hereby given that the Fusion Energy Sciences Advisory Committee will be renewed for a two-year period beginning on August 2, 2013.

The Committee will provide advice to the Office of Science (DOE), on long-range plans, priorities, and strategies for advancing plasma science, fusion science and fusion technology—the knowledge base needed for an economically and environmentally attractive fusion energy source.

Additionally, the renewal of the Fusion Energy Sciences Advisory Committee has been determined to be essential to conduct business of the Department of Energy and to be in the public interest in connection with the performance of duties imposed upon the Department of Energy, by law and agreement. The Committee will continue to operate in accordance with the provisions of the Federal Advisory Committee Act, adhering to the rules and regulations in implementation of that Act.

FOR FURTHER INFORMATION CONTACT: Edmund J. Synakowski at (301) 903-4941.

Issued in Washington, DC, on August 5, 2013.
Carol A. Matthews,
Committee Management Officer.

[FR Doc. 2013-19473 Filed 8-9-13; 8:45 am]

BILLING CODE 6450-01-P